DEPARTMENT OF ENERGY

Federal Energy Regulatory Commission

[Docket No. IC25-12-000]

Commission Information Collection Activity (FERC-542); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-542: Gas Pipeline Rates: Rate Tracking. No comments were received on the 60-day notice that was published in the Federal Register on May 8, 2025.

DATES: Comments on the collection of information are due September 11, 2025.

ADDRESSES: Send written comments on FERC-542 to OMB through https://www.reginfo.gov/public/do/PRA/icrPublicCommentRequest?ref_nbr=202507-1902-005. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-12-000) and the FERC Information Collection number (FERC-542) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov

SUPPLEMENTARY INFORMATION:

Title: FERC-542, Gas Pipelines Rates: Rate Tracking.

OMB Control No.: 1902-0070.

Type of Request: Three-year extension of the FERC-542 information collection requirements with no changes to the reporting requirements.

Abstract: The Commission uses FERC-542 filings to verify that costs which are passed through to pipeline customers as rate adjustments are consistent with the Natural Gas Policy Act (NGPA), 15 U.S.C. 3301-3432, and sections 4 and 5 of the Natural Gas Act (NGA), 15 U.S.C. 717c and 717d. These statutory provisions require FERC to regulate the transmission and sale of natural gas for resale in interstate commerce at just and reasonable rates. This collection of information is also in accordance with section 16 of the NGA, 15 U.S.C. 717o, which authorizes FERC to implement the NGA through its rules and regulations.

The regulations at 18 CFR part 154 include provisions that allow an interstate natural gas pipeline to submit filings seeking to:

• Recover research, development and demonstration expenditures (18 CFR 154.401);

• Recover annual charges assessed under 18 CFR part 382 (18 CFR 154.402); and

• Passthrough, on a periodic basis, a single cost or revenue item such as fuel use and unaccounted-for natural gas in kind (18 CFR 154.403).

FERC-542 filings may be submitted at any time or on a regularly scheduled basis in accordance with the pipeline company's tariff. Filings may be: (1) accepted; (2) suspended and set for hearing; (3) minimal suspension; or (4) suspended for further review, such as technical conference or some other type of Commission action. The Commission implements these filing requirements under 18 CFR part 154.

Type of Respondents: Jurisdictional Natural Gas Pipelines

Estimate of Annual Burden: ¹ The Commission estimates the total burden and cost for this information collection as follows:

¹ Burden is defined as the total time, effort, or financial resources expended by persons to generate, maintain, retain, or disclose or provide information to or for a Federal agency. Refer to 5 CFR 1320.3 for additional information.

Type of response | Average annual number of respondents | Average annual number of responses per respondent | Total number of responses | Average burden hours & cost per respondent | Total annual burden hours & total annual cost (rounded) | Cost per respondent (rounded)
| (1) | (2) | (1) * (2) = (3) | (4) ² | (3) * (4) = (5) | (5) ÷ (1)
Request to Recover Costs from Customers | 102 | 2 | 204 | 2 hrs; $206 | 408 hrs; $42,024 | $412

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff estimates that the industry's hourly cost for wages plus benefits is similar to the Commission's $103.00 FY 2025 average hourly cost for wages and benefits.

Dated: August 7, 2025.
Debbie-Anne A. Reese,
Secretary.

[FR Doc. 2025-15274 Filed 8-11-25; 8:45 am]

BILLING CODE 6717-01-P